INTERNATIONAL TRADE COMMISSION

[Investigation No. 731-TA-921 (Second Review)]

Folding Gift Boxes From China; Revised Scheduling of the Expedited Five-Year Review Concerning the Antidumping Duty Order on Folding Gift Boxes From China

AGENCY: United States International Trade Commission.

ACTION: Notice.

DATES: Effective Date: November 5, 2012.

FOR FURTHER INFORMATION CONTACT: Angela M. W. Newell (202-708-5409), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On August 7, 2012, the Commission postponed the release of its final staff report and date for final comments for this expedited review (77 FR 48168, August 13, 2012). On October 26, 2012 (77 FR 65361), the Department of Commerce published its preliminary results in the second five-year review of the antidumping duty order on Folding Gift Boxes from China. Accordingly, the Commission will release the final staff report on November 6, 2012 and final comments are due November 14, 2012.

Authority: This review is being conducted under authority of title VII of the Tariff Act of 1930; this notice is published pursuant to section 207.62 of the Commission's rules.

By order of the Commission.
Issued: November 6, 2012.
Lisa R. Barton,
Acting Secretary to the Commission.

[FR Doc. 2012-27515 Filed 11-9-12; 8:45 am]

BILLING CODE 7020-02-P